DEPARTMENT OF COMMERCE

National Oceanic and Atmospheric Administration

[I.D. 080304A]

Draft NOAA Shrimp Issues and Options Paper Public Meetings

AGENCY: National Marine Fisheries Service (NMFS), National Oceanic and Atmospheric Administration (NOAA), Commerce.

ACTION: Notice of public meetings.

SUMMARY: The National Marine Fisheries Service (NOAA Fisheries) is hosting public meetings to present the results of an analysis of different options and alternatives that may help resolve current financial and market industry challenges. The analysis was developed at the request of the shrimp industry and other interested parties. The options will be presented in their entirety and the results from those that could be analyzed will be presented. Public comment on the analysis will be taken at the meetings. See DATES and ADDRESSES for specific dates, times and locations of the meetings.

DATES: The meetings held on Monday August 23-24, are scheduled to start at 11:30 a.m. on the 23rd and end at noon on the 24th. The meeting held on August 25th is scheduled to begin at 7 p.m. and end at 10 p.m. The meeting held on August 27th is scheduled to begin at 9:30 a.m. and end at 4 p.m. The meeting held on August 28th is scheduled to begin at 9:30 a.m. and end at 4 p.m. Another meeting will be scheduled for September in New Orleans, LA.

ADDRESSES: The meetings August 23-24 will be held at the Holiday Inn Houston Intercontinental Airport, 15222 John F. Kennedy Blvd. Houston, TX 77032; 281-449-2311; the meeting August 25th will be held at the Sheraton Suites Tampa Airport, 4400 West Cypress Street, Tampa, FL; 813-873-8675; the meeting August 27th will be held at the Embassy Suites Airport-Convention Center, 5055 International Boulevard, North Charleston, SC 29418; 843-747-1882; the meeting August 28th will be held at the New Bern Sheraton, 100 Middle Street, New Bern, NC 28560; 252-638-3585.

FOR FURTHER INFORMATION CONTACT: Gordon J. Helm, Deputy Director, Office of Constituent Services. Telephone (301) 713-2379.

SUPPLEMENTARY INFORMATION: The primary goal of the meeting is to present the analysis and collect public input on the DRAFT shrimp industry issues and options included in the paper. Copies of the DRAFT paper will be available at the meetings and will also be available online beginning 11 a.m. EST August 23, 2004, at: www.nmfs.noaa.gov/mediacenter. Those interested in obtaining a copy after the meetings may contact Dr. John Ward, Economist. Telephone (301) 713-2379.

Special Accommodations

The meeting is physically accessible to people with disabilities. Requests for sign language interpretation or other auxiliary aids should be directed to Dr. John Ward at (301) 713-2379 at least 5 days prior to the meeting date.

Dated: August 3, 2004.
Gordon J. Helm,
Deputy Director, Office of Constituent Services, National Marine Fisheries Service.

[FR Doc. 04-18052 Filed 8-5-04; 8:45 am]

BILLING CODE 3510-22-S